DEPARTMENT OF DEFENSE

Department of the Army

Availability for Non-Exclusive, Exclusive, or Partially Exclusive Licensing of U.S. Patent Concerning Hantavirus Vaccine

AGENCY: Department of the Army, DoD.

ACTION: Notice.

SUMMARY: In accordance with 37 CFR 404.6, announcement is made of the availability for licensing of U.S. Patent No. 5,614,193 entitled “Hantavirus Vaccine” issued March 25, 1997. The United States government as represented by the Secretary of the Amy has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 61-5034.

SUPPLEMENTARY INFORMATION: Vaccine formulations for inducing protective immune response to Hantaviruses in humans are disclosed. These formulations include an attenuated vaccine virus vector containing cDNA's encoding Hantavirus nucleocapsid N protein, G1 and G2 glycoproteins. Methods for the use of these formulations also are disclosed.

Luz D. Ortiz,
Army Federal Register Liaison Officer.

[FR Doc. 02-4180 Filed 2-20-02; 8:45 am]

BILLING CODE 3710-08-M